INTERNATIONAL TRADE COMMISSION

[Investigation Nos. 701-TA-486 and 731-TA-1195-1196 (Final)]

Utility Scale Wind Towers From China and Vietnam

Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is materially injured or threatened with material injury by reason of imports of utility scale wind towers from China and Vietnam, provided for in subheading 7308.20.00 of the Harmonized Tariff Schedule of the United States, that the U.S. Department of Commerce has determined are subsidized by the Government of China and sold in the United States at less than fair value (“LTFV”).² ³

¹ The record is defined in sec. 207.2(f) of the Commission's Rules of Practice and Procedure (19 CFR 207.2(f)).

² Chairman Irving A. Williamson and Commissioner Shara L. Aranoff determine that an industry in the United States is materially injured by reason of imports of utility scale wind towers from China and Vietnam. Commissioner Dean A. Pinkert determines that an industry in the United States is threatened with material injury by reason of imports from China and Vietnam of utility scale wind towers. He further determines that he would not have found material injury but for the suspension of liquidation.

³ Commissioners Daniel R. Pearson, David S. Johanson, and Meredith M. Broadbent determine that an industry in the United States is not materially injured or threatened with material injury by reason of imports from China and Vietnam of utility scale wind towers.

Background

The Commission instituted these investigations effective December 29, 2011, following receipt of a petition filed with the Commission and Commerce by Broadwind Towers, Inc., Manitowoc, WI; DMI Industries, Fargo, ND; Katana Summit LLC, Columbus, NE; and Trinity Structural Towers, Inc., Dallas, TX. The final phase of the investigations was scheduled by the Commission following notification of preliminary determinations by Commerce that imports of utility scale wind towers from China were subsidized within the meaning of section 703(b) of the Act (19 U.S.C. 1671b(b)) and that such imports from China and Vietnam were dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on August 22, 2012 (77 FR 50715). The hearing was held in Washington, DC, on December 13, 2012, and all persons who requested the opportunity were permitted to appear in person or by counsel. The Commission transmitted its determinations in these investigations to the Secretary of Commerce on February 8, 2013. The views of the Commission are contained in USITC Publication 4372 (February 2013), entitled Utility Scale Wind Towers from China and Vietnam: Investigation Nos. 701-TA-486 and 731-TA-1195-1196 (Final).

Issued: February 8, 2013.
By order of the Commission.
William R. Bishop,
Supervisory Hearings and Information Officer.

[FR Doc. 2013-03317 Filed 2-12-13; 8:45 am]

BILLING CODE 7020-02-P